DEPARTMENT OF HOMELAND SECURITY

Office of the Secretary

[DHS-2006-0007]

Data Privacy and Integrity Advisory Committee

AGENCY: Office of the Secretary, DHS.

ACTION: Notice of Federal advisory committee meeting.

SUMMARY: The notice announces the date, time, location, and agenda for the next meeting of the Department of Homeland Security Data Privacy and Integrity Advisory Committee. This meeting will include an administrative session, which will be closed to the public.

DATES: The meeting will be held on Tuesday, March 7, 2006, in Washington, DC.

ADDRESSES: The Department of Homeland Security Data Privacy and Integrity Advisory Committee meeting will be held in the Polaris Room at the Ronald Reagan Building and International Trade Center, 1300 Pennsylvania Avenue, Washington, DC 20004. Persons wishing to make comments or who are unable to attend or speak at the meeting may submit comments at any time. Comments must be identified by DHS-2006-0007 and may be submitted by any one of the following methods:

• Federal Rulemaking Portal: http://www.regulations.gov. Follow instructions for submitting comments on the Web site.

• E-mail: PrivacyCommittee@dhs.gov. Include docket number in the subject line of the message.

• Fax: 571-227-4171.

• Mail: Ms. Toby Levin, Acting Executive Director, Data Privacy and Integrity Advisory Committee, Department of Homeland Security, Mail Stop C-3, Arlington, VA, 22202.

Instructions: All submissions received must include the Department of Homeland Security and DHS-2006-0007, the docket number for this action. Comments received will be posted without alteration at www.regulations.gov, including any personal information provided.

Docket: For access to the docket to read background documents or comments received by the DHS Data Privacy and Integrity Committee, go to http://www.regulations.gov. Comments received will be posted without alteration at http://www.dhs.gov/privacy, including any personal information provided.

FOR FURTHER INFORMATION CONTACT: Maureen Cooney, Acting Chief Privacy Officer, or Toby Levin, Acting Executive Director, Data Privacy and Integrity Advisory Committee, Department of Homeland Security, Arlington, VA 22202, by telephone 571-227-3813, by facsimile 571-227-4171, or by e-mail PrivacyCommittee@dhs.gov.

SUPPLEMENTARY INFORMATION: The DHS Data Privacy and Integrity Advisory Committee (Committee) will be meeting on Tuesday, March 7, 2006, in the Polaris Room at the Ronald Reagan Building and International Trade Center, 1300 Pennsylvania Avenue, Washington, DC 20004. The meeting will begin at 8:30 a.m. and continue until 4:30 p.m. Although most of the meeting is open to the public, there will be a closed session between 12:30 p.m. and 2:30 p.m., in order to permit the Privacy Advisory Committee members to discuss administrative and planning items, including future meetings and a timeline for possible subcommittee reports to the full Committee.

At the meeting, the Acting Chief Privacy Officer will provide an update on the activities of the Privacy Office. The subcommittees on Emerging Applications and Technology, Data Sharing and Usage, Framework, and Screening will update the Committee on the work currently being conducted. In the morning and afternoon sessions, invited speakers will discuss how to foster information sharing while protecting privacy. An agenda will be posted on the Privacy Committee Web site at http://www.dhs.gov/privacy prior to the meeting.

Public comments will be accepted during the meeting between 4 p.m. and 4:30 p.m. All those who wish to testify during this time may register in advance or sign-up on the day of the meeting. In order to allow as many people as possible to testify, witnesses should limit their remarks to three minutes. For those wishing to make written comments, please follow the procedure noted above.

Public attendance is encouraged. Any member of the public who wishes to attend the public session is requested to provide his or her name no later than 12 p.m. e.s.t., Thursday, March 2, 2006, to Toby Levin via e-mail at PrivacyCommittee@dhs.gov, or via telephone at 571-227-3813. This will assist with the preparation of meeting materials and seating arrangements. Everyone who plans to attend is respectfully requested to be present and seated by 8:15 a.m. for the morning session and by 2:15 p.m. for the afternoon session.

Persons with disabilities who require special assistance should indicate this in their admittance request and are encouraged to identify anticipated special needs as early as possible.

Although every effort will be made to accommodate all members of the public, seating is limited and will be allocated on a first-come, first-served basis.

Basis for Closure: A portion of this Committee meeting will be closed for administrative and planning purposes that are referenced above. The closed portion is excluded from the Open Meetings requirement, pursuant to the authority contained in 41 CFR 102-3.160(b).

Dated: February 2, 2006.
Maureen Cooney,
Acting Chief Privacy Officer.

[FR Doc. E6-2048 Filed 2-13-06; 8:45 am]

BILLING CODE 4410-10-P